DEPARTMENT OF ENERGY

Federal Energy Regulatory Commission

[Project No. 606-027-CA]

Kilarc-Cow Creek Hydroelectric Project; Notice of Scoping Meetings and Environmental Site Review and Soliciting Scoping Comments

September 15, 2009.

Take notice that the following hydroelectric application has been filed with the Commission and is available for public inspection:

a. Type of Application: Surrender of License.

b. Project No.: 606-027.

c. Date Filed: March 13, 2009.

d. Applicant: Pacific Gas and Electric Company.

e. Name of Project: Kilarc-Cow Creek Hydroelectric Project.

f. Location: Old Cow Creek and South Cow Creek in Shasta County, California.

g. Filed Pursuant to: Federal Power Act, 16 U.S.C. 791a-825r.

h. Applicant Contact: Mr. Randal S. Livingston, Vice-President of Power Generation, Pacific Gas and Electric Company, P.O. Box 770000, MC-N11E, San Francisco, CA 94177-0001. Telephone (415) 973-7000.

i. FERC Contact: CarLisa Linton-Peters, (202) 502-8416, or e-mail: carlisa.linton-peters@ferc.gov.

j. Deadline for filing scoping comments: October 16, 2009.

All documents (original and eight copies) should be filed with: Kimberly D. Bose, Secretary, Federal Energy Regulatory Commission, 888 First Street, NE., Washington, DC 20426. Please include the project number (P-606) on any comments filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Scoping comments may be filed electronically via the Internet in lieu of paper filings. The Commission strongly encourages electronic filings. See 18 CFR 385.2001(a)(1)(iii) and the instructions on the Commission's Web site at (http://www.ferc.gov/docs-filing/ferconline.asp) under the “e-filing” link. For a simpler method of submitting text only comments, click on “Quick Comment.”

k. Description of Request: The applicant proposes to surrender the license for the Kilarc-Cow Creek Hydroelectric Project. In addition, the applicant proposes to decommission and remove project facilities, as described in its proposed decommissioning plan. In general, (1) Diversion dams would be removed to stop water diversions and to allow for free passage of fish and sediment; (2) some diversion dam abutments and foundations would be left in place to protect stream banks and provide grade control; (3) powerhouse structures would be secured and left in place during decommissioning and an option for future reuse of the powerhouse structures for non-generation purposes would be preserved; (4) electric generators, turbines and other equipment would be removed; (5) forebays would be graded and filled; and (6) canal segments would be left in place, breached, or filled in consultation with affected landowners, and metal and wood flume structures would be removed. The applicant consulted with federal, state, local agencies, and other parties with potential interest, during the license surrender application process.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

You may also register online at http://www.ferc.govdocs-filing/esubscription.asp to be notified via electronic mail of new filings and issuances related to this or other pending projects. For technical assistance, contact FERC Online Support.

m. Mailing list: Individuals desiring to be included on the Commission's mailing list should so indicate by writing to the Secretary of the Commission.

n. Scoping Process: The Commission intends to prepare an Environmental Assessment (EA) on the proposed action in accordance with the National Environmental Policy Act. The EA will consider both site-specific and cumulative environmental impacts and reasonable alternatives to the proposed action.

Scoping Meetings

FERC staff will conduct one evening public meeting and one agency scoping meeting, which is also open to the public. The agency scoping meeting will primarily focus on resource agency and non-governmental organization (NGO) concerns, while the public scoping meeting will primarily focus on receiving public input. All interested individuals, organizations, and agencies are invited to attend one or both of the scoping meetings, and to assist FERC staff in identifying the scope of the environmental issues that should be analyzed in the EA on the proposed action. There will also be a public environmental site review to the Kilarc-Cow Creek project site (see below). The times and locations of these two scoping meetings are as follows:

Public Scoping Meeting

Date: Monday, October 19, 2009.

Time: 6 p.m. until 8:30 p.m.

Place: Millville Grange.

Address: 22037 Old 44 Drive, Palo Cedro, CA 96073.

Telephone: (530) 547-5215.

Agency Scoping Meeting

Date: Thursday, October 22, 2009.

Time: 9 a.m. until 12 Noon.

Place: Holiday Inn.

Address: 1900 Hilltop Drive, Redding, CA 96002.

Telephone: (530) 221-7500.

At the scoping meetings, the public will meet the FERC staff and then the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Environmental Site Review

The Applicant and FERC staff will conduct a two-day public environmental site review. All interested individuals, organizations and agencies are invited to attend the site review, which begins on Tuesday, October 20, 2009 from 9:00 a.m. to 4:30 p.m. All participants wishing to tour the Kilarc project features should meet at the Whitmore Community Center, across from the Whitmore General Store, at 30555 Whitmore Road, Whitmore, CA. 96096. All participants are responsible for their own transportation to the site. Four-wheel drive transportation is strongly recommended to see the site, and car-pooling is encouraged. Participants should understand that parking for the site review is limited and available on a first come first serve basis; therefore FERC is requesting RSVPs for those planning to attend by October 13, 2009 to CarLisa M Linton-Peters at (202) 502-8416. All participants are asked to bring a brown-bag lunch, sufficient drink water, and wear appropriate clothing and shoes for the site visit. Participants should realize that there will be moderate hiking required and there is no access to restroom facilities for most of the tour. Participants will also be asked to sign a Release from Liability form prior to beginning the site tour. The second day of the environmental site review, to tour the Cow Creek project features, will occur on Wednesday, October 21, 2009 starting at 9 a.m. All participants joining us for the second day should meet at the Palo Cedro Park and Ride, across from the Holiday Market, on the corner of Deschutes Road and 44, in Palo Cedro, CA. 96073. A tentative itinerary of the two-day environmental site review is provided below. Anyone with questions about details of the site review should contact Lisa Whitman of Pacific Gas and Electric Company at (925) 973-7465.

Tentative Environmental Site Review Itinerary

Kilarc Creek Tour, Tuesday, October 20th 2009. 09:00 to 16:30.

09:00 Meet at the Whitmore Community Center, across from the Whitmore General Store. Provide instruction on tour and tour participations requirements (i.e. no smoking, will stay as a group, some hiking required/optional, and respect private lands). Public participants park their vehicles and load into PG&E vehicles. (If the public participants only want to visit the Kilarc Forebay, they may drive their own cars and park in the recreation area).

09:30 Drive to Kilarc Powerhouse. Due to safety rules and the use of Flame Resistant (FR) clothing in powerhouses and switchyards, members of the public will be able to view the powerhouse from the outside only and view the immediate area.

10:15 Drive to Kilarc Forebay—Proceed on Miller Mountain Road to Kilarc Forebay and tour the immediate area. Participants may walk a portion of the lower canal.

11:30 Option to proceed via Miller Mountain Road and Access Road “A” to Kilarc Diversion Dam. Participants may walk 1,500 yards to view a section of the upper canals, flume sections and the siphon.

13:00 Option to drive to North and South Canyon Creek Diversions.

16:30 Secure for day.

Cow Creek Tour, Wednesday, October 21st 2009. 09:00-16:30.

09:00 Meet at the Park and Ride across from the Holiday Market (Palo Cedro). Provide instruction on tour and tour participations requirements (i.e. no smoking, will stay as a group, some hiking required/optional, and respect private lands). Public participants park their vehicles and load into PG&E vehicles.

09:30 Drive to Abbott Ditch Diversion. Inspect the Abbott Ditch diversion and lower portion of Hooten Gulch.

10:00 Drive to Cow Creek Powerhouse. Due to safety rules and the use of FR clothing in powerhouses and switchyards, members of the public will be able to view the powerhouse from the outside only and inspect the immediate area including the upper portion of Hooten Gulch.

11:30 Proceed to Cow Creek Diversion Dam. Park vehicles, and walk approximately 400 yards to the diversion dam and the fish ladder and the upper section of the Cow Creek Canal. Walk 300 yards to the Mill Creek Diversion.

13:00 Proceed to Cow Creek Forebay, by South Cow Creek Road. For participants who do not want to see the Cow Creek Forebay, they would be driven back to their vehicles. The tour would go across the wet crossing of South Cow Creek to Access Road A and to Cow Creek Forebay. The group would tour the immediate area of the Forebay and then return via Access Road A and South Cow Creek Road back to the Palo Cedro Park and Ride.

16:30 Secure for Day.

Note: For both days of the environmental site review, all participants are asked to bring a brown bag lunch and water bottles.

Scoping Document

Copies of the Scoping Document (SD) outlining the subject areas to be addressed in the EA were distributed to the parties on the Commission's mailing list on September 15, 2009. Copies of the SD will also be available at the scoping meetings or may be viewed on the Commission's Web site at http://www.ferc.gov using the “eLibrary” link.

Procedures

The scoping meetings will be recorded by a stenographer and will become part of the formal record of the Commission proceeding on this project.

Individuals, organizations and agencies with environmental expertise and concerns are encouraged to attend the meetings and the site visit and to assist the FERC staff in defining and clarifying the issues to be addressed in the EA.

If you have any questions regarding this notice, please contact the environmental coordinator at the Federal Energy Regulatory Commission, CarLisa Linton-Peters at (202) 502-8416 or carlisa.linton-peters@ferc.gov.

Kimberly D. Bose,
Secretary.

[FR Doc. E9-22717 Filed 9-21-09; 8:45 am]

BILLING CODE 6717-01-P